DEPARTMENT OF COMMERCE

Bureau of Export Administration

[Docket No. 010412092-1165-03]

Cancellation of Public Hearing on Section 232 National Security Investigation of Imports of Iron Ore and Semi-Finished Steel

AGENCY: Bureau of Export Administration, Office of Strategic Industries and Economic Security, Strategic Analysis Division, Department of Commerce.

ACTION: Cancellation of public hearing on section 232 national security investigation of imports of iron ore and semi-finished steel.

SUMMARY: In a June 14, 2001, Federal Register Notice (66 FR 32315), the Bureau of Export Administration (BXA) announced three public hearings on the investigation that the Department of Commerce initiated, on February 1, 2001, to determine the effects on the national security of imports of iron ore and semi-finished steel. This investigation is being conducted under section 232 of the Trade Expansion Act of 1962, as amended (19 U.S.C. 1862). This notice announces the cancellation of the public hearing scheduled for July 19, 2001, in Irvine, California, due to a low number of requests to speak at that location.

FOR FURTHER INFORMATION CONTACT: Brad Botwin, Director, Strategic Analysis Division, Bureau of Export Administration, U.S. Department of Commerce, (202) 482-4060, bbotwin@bxa.doc.gov or Michael Vaccaro, Trade and Industry Analyst, Bureau of Export Administration, U.S. Department of Commerce, (202) 482-8232, mvaccaro@bxa.doc.gov. For more information about the section 232 program, including the regulations and the text of previous investigations, see www.doc-bxa.bmpcoe.org under “Programs.”

SUPPLEMENTARY INFORMATION:

Background

On February 1, 2001, the Department of Commerce initiated an investigation under section 232 of the Trade Expansion Act of 1962, as amended (19 U.S.C. 1862), to determine the effects on the national security of imports of iron ore and semi-finished steel. The findings and recommendations of the investigation are to be reported by the Secretary of Commerce to the President no later than October 29, 2001. For further details on this investigation, see the Federal Register notices of February 6, 2001 (66 FR 9067) and April 18, 2001 (66 FR 19917).

The iron ore and semi-finished steel products subject to this investigation include:

1. Iron Ore

—Briquettes

—Pellets

—Sinter

2. Semi-finished Steel

—Ingots

—Billets

—Blooms

—Slab

As announced in the June 14, 2001 Federal Register Notice (66 FR 32315), BXA is holding public hearings as part of the investigation. The hearings will assist the Department in determining whether imports of iron ore and semi-finished steel threaten to impair the national security and in recommending remedies if such a threat is found to exist. The Department has cancelled the public hearing scheduled for Thursday, July 19, 2001 at the Newport Gateway, in Irvine, California, due to a low number of requests to speak at that location. The June 14, 2001 Federal Register Notice provided that any person, whether presenting or not, may submit a written statement through August 17, 2001, 30 days after the last hearing date. Written submissions by persons not selected to make presentations at the Thursday, July 5, 2001 and Sunday, July 15, 2001 public hearings will be made part of the public record of the proceedings. Written statements should be submitted to Brad Botwin, Director, Strategic Analysis Division, Bureau of Export Administration, U.S. Department of Commerce, Room 3876, 14th Street and Pennsylvania Avenue, NW, Washington, DC 20230.

Dated: July 2, 2001.
James J. Jochum,
Assistant Secretary for Export Administration.

[FR Doc. 01-17151 Filed 7-9-01; 8:45 am]

BILLING CODE 3510-JT-P